SECURITIES AND EXCHANGE COMMISSION

[Release No. 34-53467; File No. 81-935]

Notice of an Application of Peoples Financial Corporation Under Section 12(h) of the Securities Exchange Act of 1934

March 10, 2006.

The Securities and Exchange Commission gives notice that Peoples Financial Corporation has filed an application under Section 12(h) of the Securities Exchange Act of 1934, as amended, for certain relief. Peoples states that its principal executive offices are located in Biloxi, Mississippi, which is within one of the Presidentially Declared Disaster Areas where Individual Assistance has been authorized by the Federal Emergency Management Agency as a result of Hurricane Katrina, and that its sixteen branch facilities are also located in the Disaster Areas. In its application, Peoples asserts that the relief is necessary due to, among other things, the extraordinary impact of Hurricane Katrina on Peoples's facilities, personnel, customers, and independent public accountant. For example, the application indicates that: (1) Peoples, which is a bank holding company, lost six of the sixteen branch locations of its bank subsidiary, The Peoples Bank; (2) more than twenty percent of its employees lost their homes, another twenty-five percent had serious damage to their homes and several of Peoples's branches served as temporary housing for employees; and (3) company personnel have had to focus on on-going post-Katrina recovery issues such as evaluation of the loan portfolio and recovery and decontamination of items from vaults and safe deposit boxes. Further, the application states that: (1) The Biloxi, Mississippi office of Peoples's independent public accountants, which housed all of their hard copy records and computer files, was destroyed and more than twenty-five percent of their professional and support staff have relocated out of the area; and (2) Peoples was the only client of its independent public accountants that is subject to the reporting requirements of Section 13 or 15(d) of the Exchange Act. Accordingly, Peoples asks the Commission to order that Peoples be required to first include the disclosures specified in paragraphs (a) and (b) of Item 308 of Regulation S-K and first comply with Exchange Act Rule 13a-15(c) for the fiscal year ended December 31, 2006.

For a detailed statement of the information presented, all persons are referred to Peoples's application, which is on file in the Commission's Public Reference Room, Station Place, 100 F Street, NE., Washington, DC 20549.

The Commission also gives notice that any interested person may, not later than March 30, 2006, submit to the Commission in writing its views on any substantial facts bearing on the application or the desirability of a hearing thereon.

Any such communication or a request that the Commission hold a hearing on this matter may be submitted by any of the following methods:

Electronic Communications

• Use the Commission's Internet comment form (http://www.sec.gov/rules/other.shtml); or

• Send an e-mail to rule-comments@sec.gov. Please include File Number 81-935 on the subject line.

Paper Communications

• Send paper comments in triplicate to Nancy M. Morris, Secretary, Securities and Exchange Commission, Station Place, 100 F Street, NE., Washington, DC 20549-1090.

All submissions should refer to File Number 81-935. This file number should be included on the subject line if e-mail is used. To help the Commission process and review your communications more efficiently, please use only one method. The Commission will post all communications on the Commission's Internet Web site (http://www.sec.gov/rules/other.shtml). Copies of the submission, all subsequent amendments, all written statements with respect to the application filed with the Commission, and all written communications relating to the application between the Commission and any person, other than those that may be withheld from the public in accordance with the provisions of 5 U.S.C. 552, will be available for inspection and copying in the Commission's Public Reference Room. All communications received will be posted without change; the Commission does not edit personal identifying information from submissions. You should submit only information that you wish to make available publicly. All submissions should be submitted on or before March 30, 2006.

Persons who request a hearing or advice as to whether a hearing is ordered will receive any notices and orders issued in this matter, including the date of the hearing (if ordered) and any postponements thereof. At any time after said date, the Commission may issue an order granting the application upon request or upon the Commission's own motion.

For the Commission, by the Division of Corporation Finance, pursuant to delegated authority.
Nancy M. Morris,
Secretary.

[FR Doc. E6-3778 Filed 3-15-06; 8:45 am]

BILLING CODE 8010-01-P